DEPARTMENT OF THE INTERIOR

National Park Service

[NPS-WASO-NAGPRA-23301; PPWOCRADN0-PCU00RP14.R50000]

Notice of Inventory Completion: Museum of Natural History and Planetarium, Roger Williams Park, Providence RI

AGENCY: National Park Service, Interior.

ACTION: Notice.

SUMMARY: The Museum of Natural History and Planetarium, Roger Williams Park, has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Museum of Natural History and Planetarium, Roger Williams Park. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Museum of Natural History and Planetarium, Roger Williams Park, at the address in this notice by July 31, 2017.

ADDRESSES: Michael W. Kieron, Museum of Natural History and Planetarium, Roger Williams Park, 1000 Elmwood Avenue, Providence, RI 02907, telephone (401) 680-7248, email m.kieron@musnathist.com.

SUPPLEMENTARY INFORMATION: Notice is here given in accordance with the Native American Graves Protection and Repatriation Act (NAGPRA), 25 U.S.C. 3003, of the completion of an inventory of human remains and associated funerary objects under the control of the Museum of Natural History and Planetarium, Roger Williams Park. The human remains and associated funerary objects were removed from the Miller Cave site (23PU2) in Pulaski County, MO.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Museum of Natural History and Planetarium, Roger Williams Park, professional staff in consultation with representatives of the Apache Tribe of Oklahoma; Comanche Nation, Oklahoma; Eastern Band of Cherokee Indians; Kiowa Indian Tribe of Oklahoma; and The Osage Nation (previously listed as the Osage Tribe).

History and Description of the Remains

In 1927, human remains representing, at minimum, one individual were removed from the Miller Cave site (23PU2) in Pulaski County, MO, by Mr. and Mrs. Edward H. Nadeau. The human remains, consisting of one adult metacarpal, and the associated funerary objects were donated to the Museum of Natural History and Planetarium, Roger Williams Park, by Mr. and Mrs. Nadeau on January 23, 1933. No known individuals were identified. The 16 associated funerary objects include 1 polished tip of a white-tailed deer antler, 1 partial white-tailed deer antler, 9 partial white-tailed deer bones, 1 piece of a spiny softshell turtle carapace, and 4 potsherds. Most of the objects were labeled as being from Miller Cave, Pulaski County, MO.

The human remains and associated funerary objects were part of a collection of 50 lots of American Indian objects and geological specimens collected in the 1920s by the Nadeaus. No records related to this donation have been located.

The human remains and associated funerary objects were accessioned (catalog number E2730, accession number 8943) and stored with objects collected in 1927 from North Carolina and Young County, Texas. The objects from North Carolina and Texas were labeled according to their provenience. The entire group was entered into the catalog as “Bones and Potsherds, Pulaski Co., Missouri; Young Co., Texas; North Carolina.” Many of the American Indian objects donated at this time were treated in a similar manner, with objects from disparate localities being cataloged together.

Due to this generalized catalog entry, the human remains were originally reported by the Museum of Natural History and Planetarium in an inventory as culturally unidentifiable (CUI). A 1983 study identified the human remains as American Indian based on the associated funerary objects. Following an examination by representatives of The Osage Nation (previously listed as the Osage Tribe) in January 2016, The Osage Nation and the Museum of Natural History and Planetarium, Roger Williams Park concurred that the human remains and associated funerary objects are from a burial site located on Osage ancestral lands.

Determinations Made by the Museum of Natural History and Planetarium, Roger Williams Park

Officials of the Museum of Natural History and Planetarium, Roger Williams Park, have determined that:

• Pursuant to 25 U.S.C. 3001(9), the human remains described in this notice represent the physical remains of 1 individual of Native American ancestry.

• Pursuant to 25 U.S.C. 3001(3)(A), the 16 objects described in this notice are reasonably believed to have been placed with or near individual human remains at the time of death or later as part of the death rite or ceremony.

• Pursuant to 25 U.S.C. 3001(2), there is a relationship of shared group identity that can be reasonably traced between the Native American human remains and associated funerary objects and The Osage Nation (previously listed as the Osage Tribe).

Additional Requestors and Disposition

Lineal descendants or representatives of any Indian tribe or Native Hawaiian organization not identified in this notice that wish to request transfer of control of these human remains and associated funerary objects should submit a written request with information in support of the request to Michael W. Kieron, Museum of Natural History and Planetarium, Roger Williams Park, 1000 Elmwood Avenue, Providence, RI 02907, telephone (401) 680-7248, email m.kieron@musnathist.com, by July 31, 2017. After that date, if no additional requestors have come forward, transfer of control of the human remains and associated funerary objects to The Osage Nation (previously listed as the Osage Tribe) may proceed.

The Museum of Natural History and Planetarium, Roger Williams Park, is responsible for notifying the Apache Tribe of Oklahoma; Comanche Nation, Oklahoma; Eastern Band of Cherokee Indians; Kiowa Indian Tribe of Oklahoma; and The Osage Nation (previously listed as the Osage Tribe) that this notice has been published.

Dated: April 24, 2017.
Melanie O'Brien,
Manager, National NAGPRA Program.

[FR Doc. 2017-13739 Filed 6-29-17; 8:45 am]

BILLING CODE 4312-52-P